DEPARTMENT OF COMMERCE

National Oceanic and Atmospheric Administration

Agency Information Collection Activities; Submission to the Office of Management and Budget (OMB) for Review and Approval; Comment Request; North Pacific Observer Safety and Security Survey

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the collection to OMB.

DATES: To ensure consideration, comments regarding this proposed information collection must be received on or before June 10, 2024.

ADDRESSES: Interested persons are invited to submit written comments to Adrienne Thomas, NOAA PRA Officer, at NOAA.PRA@noaa.gov. Please reference OMB Control Number 0648-0759 in the subject line of your comments. Do not submit Confidential Business Information or otherwise sensitive or protected information.

FOR FURTHER INFORMATION CONTACT: Requests for additional information or specific questions related to collection activities should be directed to Special Agent Jaclyn Smith, NOAA Fisheries Office of Law Enforcement, 222 W 7th Ave. #10, Anchorage, AK 99513, 907-271-1869, or Jaclyn.Smith@noaa.gov.

SUPPLEMENTARY INFORMATION:

I. Abstract

This request is for an extension and revision of an existing information collection. The revision to the survey instrument will allow the survey participants to specify to whom they reported unwanted behavior. NMFS certified observers are a vital part of fisheries management. Observers deploy to collect fisheries data in the field; observers often deploy to vessels and work alongside fishers for weeks and months at a time. The work environment observers find themselves in can be challenging, especially if the observer finds themselves a target for victim type violations such as sexual harassment, intimidation, or even assault. The NOAA Fisheries Office of Law Enforcement has primary jurisdiction to investigate violations of the Magnuson Stevens Act. The Office of Law Enforcement prioritizes investigations initiated from reports made by observers involving assault, sexual harassment, hostile work environment, intimidation, and other behaviors that may affect observers individually.

However, it is difficult for a person to disclose if they have been a victim of a crime, and if law enforcement does not receive reports of unwanted behavior then they cannot initiate an investigation. The true number of observers who have experienced victim type crimes is unknown, and the reasons why they do not report is also unclear. More information is needed to understand how many observers per year experience victim type crimes, and why they chose not to report to the Office of Law Enforcement.

The Office of law Enforcement, Alaska Division, is conducting a survey of observer who deploy under the North Pacific Observer Program to determine the true number of observers who experienced victimizing behavior during their deployments, and what factors prevented them from reporting. Twenty questions, describing varying levels of behavior that may violate the Magnuson Act, will determine if an observer has experienced the behavior, if they reported the behavior, and to whom the report was made. The survey will assess the specific impediments to disclosure. This survey will launch on an annual basis. The results of the survey will provide the Office of Law Enforcement a better understanding of how often observers are victimized, which will enable them to reallocate resources as needed, conduct more training for observers to ensure they know how to report, conduct training to ensure people understand what constitutes a victim crime, and to increase awareness of potential victimizations. Additionally, the survey results will help law enforcement understand the barriers to disclosure, so enforcement may begin to address these impediments so they no longer prevent observers from disclosure.

II. Method of Collection

Data will be collected on a voluntary basis, via an electronic survey to ensure anonymity. The survey will be offered to all observers who deployed in the North Pacific Observer Program annually, starting in 2025. Individual data will not be released for public use.

III. Data

OMB Control Number: 0648-0759.

Form Number(s): None.

Type of Review: Regular submission [extension and revision of a current information collection].

Affected Public: Individuals.

Estimated Number of Respondents: 300.

Estimated Time per Response: 10 minutes.

Estimated Total Annual Burden Hours: 50 hours.

Estimated Total Annual Cost to Public: $0 in recordkeeping and reporting costs.

Respondent's Obligation: Voluntary.

Legal Authority: Magnuson Stevens Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2024-07626 Filed 4-9-24; 8:45 am]

BILLING CODE 3510-22-P